DEPARTMENT OF TRANSPORTATION

Surface Transportation Board

[Docket No. FD 35859]

Norfolk Southern Railway Company—Trackage Rights Exemption—Wisconsin Central Ltd.

Wisconsin Central Ltd. (CN),¹ pursuant to a written trackage rights agreement, has agreed to grant overhead trackage rights to Norfolk Southern Railway Company (NS) over the portion of CN's rail line between milepost 34.4 near Hartsdale, Ind., and milepost 27.0 near Chicago Heights, Ill., on CN's Matteson Subdivision, a distance of approximately 7.4 miles.

¹ Wisconsin Central Ltd. is a wholly-owned subsidiary of the Canadian National Railway Company. Because Wisconsin Central Ltd. is referred to as “CN” in the trackage rights agreement and in the verified notice of exemption, it will be identified as CN here.

The transaction may be consummated on or after October 23, 2014, the effective date of the exemption (30 days after the verified notice of exemption was filed).

According to NS, the trackage rights are for the intermediate movement of NS traffic over CN's segment of railroad between Hartsdale and Chicago Heights. In 2012, NS was granted authority to abandon a 6.30-mile segment of the Hartsdale Industrial Track (Hartsdale IT) and to discontinue service over a contiguous line segment of approximately 1.2 miles. See Norfolk So. Ry.—Aban. & Discontinuance of Serv. Exemption—in Lake Cnty., Ind., & Cook Cnty., Ill., AB 290 (Sub-No. 336X) (STB served Sept. 24, 2012). CN agreed to grant NS the trackage rights at issue here in exchange for NS's agreement to abandon a segment of its Hartsdale IT. The trackage rights will become necessary for NS to maintain service to shippers located on the western end of the Hartsdale IT upon consummation of the abandonment of the segment of the Hartsdale IT authorized in Docket No. AB 290 (Sub-No. 336X) and removal of the track.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by October 16, 2014 (at least 7 days before the exemption becomes effective).

An original and 10 copies of all pleadings, referring to Docket No. FD 35859, must be filed with the Surface Transportation Board, 395 E Street SW., Washington, DC 20423-0001. In addition, a copy of each pleading must be served on Maquiling B. Parkerson, General Attorney, Norfolk Southern Railway Company, Three Commercial Place, Norfolk, VA 23510.

Board decisions and notices are available on our Web site at WWW.STB.DOT.GOV.

Decided: October 3, 2014.
By the Board, Rachel D. Campbell, Director, Office of Proceedings.
Raina S. White,
Clearance Clerk.

[FR Doc. 2014-24127 Filed 10-8-14; 8:45 am]

BILLING CODE 4915-01-P